DEPARTMENT OF COMMERCE

National Oceanic and Atmospheric Administration

50 CFR Part 679

RIN 0648-AY53

Fisheries of the Exclusive Economic Zone Off Alaska; Pacific Cod Allocations in the Gulf of Alaska; Amendment 83

AGENCY: National Marine Fisheries Service (NMFS), National Oceanic and Atmospheric Administration (NOAA), Commerce.

ACTION: Notification of availability of fishery management plan amendment; request for comments.

SUMMARY: The North Pacific Fishery Management Council submitted Amendment 83 to the Fishery Management Plan for Groundfish of the Gulf of Alaska (FMP) to NMFS for review. If approved, Amendment 83 would establish Pacific cod allocations in the Central and Western Gulf of Alaska regulatory areas among various sectors and seasonal apportionments thereof. This action also would limit access to the Pacific cod parallel fishery for Federal fishery participants. This action is necessary to reduce the uncertainty regarding the distribution of Pacific cod catch, enhance stability among the sectors, maintain processing limits to protect coastal fishing communities, and provide entry-level opportunities for the jig sector. This action is intended to promote the goals and objectives of the Magnuson-Stevens Fishery Conservation and Management Act, the FMP, and other applicable laws.

DATES: Comments on the amendment must be received on or before August 29, 2011.

ADDRESSES: Send comments to Sally Bibb, Acting Assistant Regional Administrator, Sustainable Fisheries Division, Alaska Region, NMFS, Attn: Ellen Sebastian. You may submit comments, identified by “RIN 0648-AY53,” by any one of the following methods:

• Electronic Submissions: Submit all electronic public comments via the Federal eRulemaking Portal http://www.regulations.gov.

• Fax: (907) 586-7557, Attn: Ellen Sebastian.

• Mail: P.O. Box 21668, Juneau, AK 99802.

• Hand delivery to the Federal Building: 709 West 9th Street, Room 420A, Juneau, AK.

All comments received are a part of the public record. Comments will generally be posted without change. All Personal Identifying Information (for example, name, address) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

Electronic copies of the Environmental Assessment/Regulatory Impact Review/Initial Regulatory Flexibility Analysis (EA/RIR/IRFA) prepared for this action may be obtained from http://www.regulations.gov or from the Alaska Region Web site at http://alaskafisheries.noaa.gov.

FOR FURTHER INFORMATION CONTACT: Seanbob Kelly, 907-586-7228.

SUPPLEMENTARY INFORMATION: The Magnuson-Stevens Fishery Conservation and Management Act (Magnuson-Stevens Act) requires that each regional fishery management council submit any fishery management plan amendment it prepares to NMFS for review and approval, disapproval, or partial approval by the Secretary of Commerce (Secretary). The Magnuson-Stevens Act also requires that NMFS, upon receiving a fishery management plan amendment, immediately publish a notice in the Federal Register announcing that the amendment is available for public review and comment. This notice announces that proposed Amendment 83 to the Fishery Management Plan for Groundfish of the Gulf of Alaska (FMP) is available for public review and comment.

The groundfish fisheries in the exclusive economic zone of the Gulf of Alaska are managed under the FMP. The FMP was prepared by the North Pacific Fishery Management Council (Council) under the Magnuson-Stevens Act.

Pacific cod total allowable catch (TAC) in the Gulf of Alaska is apportioned on the basis of processor component and season, as established under Amendment 23 to the FMP (57 FR 23321, June 3, 1992). Since implementation, 90 percent of the TAC is allocated to vessels catching Pacific cod for processing by the inshore component and 10 percent of the TAC is allocated to vessels catching Pacific cod for processing by the offshore component. TACs are further apportioned for Pacific cod in the Western, Central, and Eastern GOA regulatory areas. In recent years, competition among participants in the Western and Central GOA Pacific cod fisheries has intensified in recent years due in part to a derby-style race for fish and competition among the various gear types for shares of the TACs. Without sector allocations, future harvests by some sectors may increase and impinge on historical levels of catch by other sectors.

The proposed action would supersede the current 90 percent/10 percent inshore/offshore processing allocations and instead divide the Western and Central GOA Pacific cod TACs among the various gear and operation types. If approved, this action would establish sector allocations for each gear and operation type in the Western and Central GOA Pacific cod fishery, based primarily on historical catches, as well as conservation, catch monitoring, bycatch, PSC avoidance, and social objectives, including considerations for small-boat sectors and coastal communities. This action is expected to enhance stability in the fishery, reduce competition among sectors, and preserve the historical division of catch among sectors.

The Eastern GOA regulatory area would retain the current 90 percent/10 percent inshore/offshore processing allocations. In recent years, only a small proportion of the Eastern GOA TAC has been harvested, although effort and catch has increased in recent years. The potential exists that the lack of any sector allocations in the Eastern GOA would provide an incentive for increased effort in that fishery. However, the Council did not perceive a need for such an action due, in part, to the differences in the prosecution of the Pacific cod fisheries in the Eastern regulatory area, such as the extensive trawl closures effectively prohibiting trawl fishing in the Southeast Outside district of the Eastern regulatory area. As a result, the Council recommended that the Eastern GOA Pacific cod TAC would not be allocated among sectors in this action.

Two elements of Amendment 83 would apply to the entire GOA, including the Western, Central, and Eastern GOA regulatory areas. First, the hook-and-line CV and C/P halibut PSC limits would apply to the entire GOA, described in more detail below. Second, NMFS is proposing new Federal Fishing Permits (FFPs) permitting requirements that would restrict the reissue of, or amendments to, FFPs by permit holders endorsed by gear and operation type to participate in all Federal or parallel Pacific cod fisheries throughout the Western, Central, and Eastern GOA, as described in more detail below.

This proposed action would define sectors based operation type and gear type, including hook-and-line, trawl, pot, and jig. In both the Western and Central GOA, the pot catcher vessel (CV) sector and pot catcher/processor (C/P) sector would be combined. The rationale for combining these sectors is that the pot C/P sector has historically been relatively small and would receive a small, difficult-to-manage allocation. Moreover, the majority of vessels that have participated as pot C/Ps in the GOA Pacific cod fishery in recent years also have fishing history as pot CVs, and will contribute catch history to both the pot C/P and CV allocations. In the Central GOA, the hook-and-line CV sector was further split by vessel length less than 50 ft (15.2 m) length overall (LOA). Historically, the majority of catch by hook-and-line CVs has been made by vessels less than 50 ft (15.2 m) LOA (<50 ft LOA), but in recent years, there has been a substantial increase in effort by hook-and-line CVs that are greater than 50 ft (15.2 m) LOA. Dividing this sector at 50 ft (15.2 m) LOA protects smaller boats from an influx of effort by vessels greater than 50 ft (15.2 m) LOA. However, it also means that vessels greater than 50 ft (15.2 m) LOA that are long-time participants in the fishery will share an allocation with these new entrants. This action would expand opportunities for jig vessels, by providing an initial allocation that is above the sector's historical catch in the fishery, and the opportunity for incremental increases to the jig allocation, if it is fully harvested. Any increases in the jig allocation would result in proportional reductions to the allocations to the other sectors.

This proposed action would not preclude operators from participating in the Western or Central GOA Pacific cod fishery using more than one gear type during a given season or year. For example, an operator could use both trawl and pot gear in the Western or Central GOA Pacific cod fishery during a given season or year, as long as they have the required License Limitation Program (LLP) license endorsements. However, the action does preclude operators from fishing off both the C/P and CV allocations to hook-and-line and trawl gear. The rationale for this restriction is that C/P operators could fish off the hook-and-line C/P or trawl C/P allocation until it is fully harvested, and then could opportunistically continue to fish as CVs, if the hook-and-line or trawl CV allocation has not yet been fully harvested. The purpose of establishing separate C/P and CV allocations is to shield CVs and C/Ps from competing against each other for access to the Pacific cod TAC. Allowing C/Ps to fish off both the C/P and CV allocations for their respective gear type would not meet this intent.

Allocations were calculated by taking each sector's `best option' from four options in the Western GOA and 6 options in the Central GOA for calculating catch history, and then scaling allocations so that they sum to 100 percent. In the Western GOA, the four options for calculating catch history included the 1995 through 2005 time period. This time period includes 6 years of catch history prior to implementation of the Steller sea lion (SSL) protection measures in 2001 (66 FR 7276, January 22, 2001). In the Western GOA, the SSL protection measures resulted in a dramatic shift of catch from trawl gear to pot gear, and including this earlier time period accounts for the catch history of the trawl sector prior to this shift. The options in the Central GOA do not include the 1995 through 2000 time period and were based on participation from 2000 through 2008. While there was a reduction in trawl catch concurrent with implementation of the SSL protection measures in the Central GOA, the shift was less dramatic than in the Western GOA because, historically, less of the trawl catch occurred in the Central GOA A season.

This proposed action is intended to protect historical processing and community delivery patterns, established in the GOA groundfish fisheries. NMFS would establish a mothership processing cap at 2 percent of the Western GOA Pacific cod TAC, and prohibit mothership activity in the Central GOA. In the Central GOA, no mothership has processed groundfish since 2000. In the Western GOA, there has been limited mothership activity. In addition, NMFS would establish separate processing caps for floating processors that do not harvest groundfish or act as a stationary floating processor in a given year. Eligible vessels would be allowed to process up to 3 percent of the respective Western and Central GOA TACs, provided that they operate within the municipal boundaries of Community Quota Entity (CQE) communities. Although the proposed action provides additional mothership processing opportunities, NMFS would tie this activity to Western and Central GOA CQE communities, thus providing economic benefits to these coastal communities from any increase in mothership processing activity (e.g., local tax revenues).

If approved, this action would preclude Federally-permitted vessels that do not have LLP licenses from participating in the Western or Central GOA Pacific cod parallel fishery. If Western or Central GOA Pacific cod sector allocations are established, parallel waters activity by Federally-permitted vessel operators who do not hold LLPs could erode the catches of historical participants who contributed catch history to the sector allocations and depend on the Western or Central GOA Pacific cod resource. Vessels fishing in Federal waters are required to hold an LLP license with the appropriate area, gear, and species endorsements, but vessels fishing in parallel State waters are not required to hold an LLP license. This action would be necessary to prevent vessels without LLPs from fishing within State waters for Federal TAC allocations of Pacific cod.

The EA/RIR/IRFA prepared for this action contains a complete description of the alternatives and a comparative analysis of the potential impacts of the alternatives (see ADDRESSES for availability). All of the directly regulated entities would be expected to benefit from this action relative to the status quo because the proposed amendment would stabilize the distribution of catch of the GOA Pacific cod TACs among the harvest sectors. The action also has the potential to benefit LLP license holders by precluding Federally-permitted vessels that do not have LLP licenses from participating in the GOA Pacific cod parallel fishery and eroding the catches of historical participants.

Similarly, vessel owners that fish for Pacific cod in the Federal waters have surrendered their FFP before fishing in State waters to avoid NMFS observer, VMS, and recordkeeping and reporting requirements, only to have the FFPs reissued for the opening of the Federal waters fishery. To prevent operators from circumventing these requirements, this action would limit vessel operators throughout the GOA to one FFP reactivation during the 3-year term of the permit.

The EA/RIR/IRFA also analyzed revisions to related provisions governing inseason reallocations of unused Pacific cod allocations, seasonal apportionments, and prohibited species bycatch allowances.

Public comments are being solicited on proposed Amendment 83 to the GOA FMP through the end of the comment period (see DATES). NMFS intends to publish in the Federal Register and seek public comment on a proposed rule that would implement Amendment 83, following NMFS' evaluation of the proposed rule under the Magnuson-Stevens Act. Public comments on the proposed rule must be received by the end of the comment period on Amendment 83 to be considered in the approval/disapproval decision on Amendment 83. All comments received by the end of the comment period on Amendment 83, whether specifically directed to the GOA FMP amendment or the proposed rule, will be considered in the FMP amendment approval/disapproval decision. Comments received after that date will not be considered in the approval/disapproval decision on the amendment. To be considered, comments must be received, not just postmarked or otherwise transmitted, by the close of business on the last day of the comment period.

Authority: 16 U.S.C. 1801 et seq.

Dated: June 23, 2011.
Margo Schulze-Haugen,
Acting Director, Office of Sustainable Fisheries, National Marine Fisheries Service.

[FR Doc. 2011-16163 Filed 6-27-11; 8:45 am]

BILLING CODE 3510-22-P